DEPARTMENT OF COMMERCE

Foreign-Trade Zones Board

[Order No. 2126]

Expansion of Foreign-Trade Zone 79 under Alternative Site Framework, Tampa, Florida

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR 400.2(c)) as an option for the establishment or reorganization of zones;

Whereas, the City of Tampa, grantee of Foreign-Trade Zone 79, submitted an application to the Board (FTZ Docket B-76-2021, docketed November 16, 2021) for authority to expand existing magnet Site 5 under the ASF to include additional acreage, in or adjacent to the Tampa U.S. Customs and Border Protection port of entry;

Whereas, notice inviting public comment was given in the Federal Register (86 FR 66521-66522, November 23, 2021) and the application has been processed pursuant to the FTZ Act and the Board's regulations; and,

Whereas, the Board adopts the findings and recommendations of the examiners' report, and finds that the requirements of the FTZ Act and the Board's regulations are satisfied;

Now, therefore, the Board hereby orders:

The application to expand FTZ 79 under the ASF is approved, subject to the FTZ Act and the Board's regulations, including Section 400.13, to the Board's standard 2,000-acre activation limit for the zone.

Dated: June 25, 2022.
Lisa W. Wang,
Assistant Secretary for Enforcement and Compliance, Alternate Chairman, Foreign-Trade Zones Board.

[FR Doc. 2022-14023 Filed 6-29-22; 8:45 am]

BILLING CODE 3510-DS-P